DEPARTMENT OF COMMERCE

National Institute of Standards and Technology

National Conference on Weights and Measures 103rd Annual Meeting

AGENCY: National Institute of Standards and Technology, Commerce.

ACTION: Notice.

SUMMARY: The 103rd Annual Meeting of the National Conference on Weights and Measures (NCWM) will be held in Tulsa, Oklahoma, from Sunday, July 15, 2018, through Thursday, July 19, 2018. This notice contains information about significant items on the NCWM Committee agendas but does not include all agenda items. As a result, the items are not consecutively numbered.

DATES: The meeting will be held on Sunday, July 15, 2018, through Wednesday, July 18, 2018, from 8:00 a.m. to 5:00 p.m. Central Time, and on Thursday, July 19, 2018, from 9:00 a.m. to 12:00 p.m. Central Time. The meeting schedule is available at www.ncwm.net.

ADDRESSES: This meeting will be held at the Hyatt Regency Tulsa Hotel, 100 East 2nd Street, Tulsa, Oklahoma 74103.

FOR FURTHER INFORMATION CONTACT: Dr. Douglas Olson, NIST, Office of Weights and Measures, 100 Bureau Drive, Stop 2600, Gaithersburg, MD 20899-2600. You may also contact Dr. Olson at (301) 975-2956 or by email at douglas.olson@nist.gov. The meeting is open to the public, but a paid registration is required. Please see the NCWM website (www.ncwm.net) to view the meeting agendas, registration forms, and hotel reservation information.

SUPPLEMENTARY INFORMATION: Publication of this notice on the NCWM's behalf is undertaken as a public service; NIST does not endorse, approve, or recommend any of the proposals or other information contained in this notice or in publications produced by the NCWM.

The NCWM is an organization of weights and measures officials of the states, counties, and cities of the United States, and representatives from the private sector and federal agencies. These meetings bring together government officials and representatives of business, industry, trade associations, and consumer organizations on subjects related to the field of weights and measures technology, administration, and enforcement. NIST participates to encourage cooperation between federal agencies and the states in the development of legal metrology requirements. NIST also promotes uniformity in state laws, regulations, and testing procedures used in the regulatory control of commercial weighing and measuring devices, packaged goods, and for other trade and commerce issues.

The NCWM has established multiple committees, task groups, and other working bodies to address legal metrology issues of interest to regulatory officials, industry, consumers, and others. The following are brief descriptions of some of the significant agenda items that will be considered by some of the NCWM Committees at the NCWM Annual Meeting. Comments will be taken on these and other issues during public comment sessions. This meeting also includes work sessions in which the Committees may also accept comments for clarification on issues, and where they will finalize recommendations for possible adoption at this meeting. The Committees may also withdraw or carry over items that need additional development.

These notices are intended to make interested parties aware of these development projects and to make them aware that reports on the status of the project will be given at the Annual Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices.” Those items address weighing and measuring devices used in commercial applications, that is, devices used to buy from or sell to the public or used for determining the quantity of products or services sold among businesses. Issues on the agenda of the NCWM Laws and Regulations Committee (L&R Committee) relate to proposals to amend NIST Handbook 130, “Uniform Laws and Regulations in the Areas of Legal Metrology and Engine Fuel Quality” and NIST Handbook 133, “Checking the Net Contents of Packaged Goods.”

NCWM S&T Committee

The following items are proposals to amend NIST Handbook 44:

SCL—Scales

Item SCL-6 S.1.2.2.3. Deactivation of a “d” Resolution

In 2017, the NCWM adopted a proposal requiring the value of the scale division (d) and verification scale interval (e) to be equal on Class I and Class II scales installed into commercial service as of January 1, 2020, when used in a direct sale application (i.e., both parties of a weighing transaction are present when the quantity is determined). The S&T Committee will now consider a new proposal, if adopted, would prohibit the deactivation of a “d” resolution on a Class I or II scale equipped with a value of “d” that differs from “e” if by such action it causes the scale to round improperly.

Item SCL-7 S.1.8.5. Recorded Representations, Point of Sale Systems

The S&T Committee will consider a proposal requiring additional sales information to be recorded by cash registers interfaced with a weighing element for items weighed at a checkout stand. These systems are currently required to record the net weight, unit price, total price, and the product class, or in a system equipped with price look-up capability, the product name or code number. The change proposed would add “tare weight” to the list of sales information currently required. This change has been proposed as a nonretroactive requirement with an enforcement date of January 1, 2022, which means if the proposal is adopted, the additional information (i.e., the tare weight) would be required to appear on the sales receipt for items weighed at a checkout stand (Point of Sale Systems) on equipment installed into commercial service as of January 1, 2022. This proposed change would not affect equipment already in service.

Item SCL-8 Sections Throughout the Code To Include Provisions for Commercial Weigh-In-Motion Vehicle Scale Systems

The S&T Committee will consider a proposal drafted by the NCWM's Weigh-In-Motion (WIM) Task Group (TG) to amend various sections of the NIST Handbook 44, Scales Code to address WIM vehicle scale systems used for commercial application to determine a vehicle's total weight. The TG is made up of representatives of WIM equipment manufacturers, the U.S. Department of Transportation Federal Highway Administration, NIST Office of Weights and Measures, truck weight enforcement agencies, state weights and measures agencies, and others.

The WIM TG was first formed in February 2016 to consider a proposal to expand the NIST Handbook 44, Weigh-In-Motion Systems Used for Vehicle Enforcement Screening—Tentative Code to also apply to legal-for-trade (commercial) and law enforcement applications. Members of the TG agreed during their first face-to-face meeting at the 2016 NCWM Annual Meeting to eliminate from the proposal any mention of a law enforcement application and focus solely on WIM vehicle scale systems intended for use in commercial applications. Members of the TG later agreed that commercial application WIM vehicle scale systems should be addressed by the Scales Code of NIST Handbook 44, rather than the Weigh-In-Motion Systems Used for Vehicle Enforcement Screening—Tentative Code.

A focus of the TG since July 2016 has been to concentrate on the development of test procedures that can be used to verify the accuracy of a WIM vehicle scale system given a proposed maintenance and acceptance tolerances of 0.2 percent and 0.1 percent, respectively, of the test loads applied during testing and considering the many different axle configurations of vehicles that will typically be weighed by these systems. Although members of the TG have not been able to reach agreement on appropriate test procedures, the TG recommended and the Committee agreed, at the 2018 NCWM Interim Meeting, to elevate the status of this item to “Voting” for the upcoming 2018 NCWM Annual Meeting.

Block 1 (B1) Items Manifold Flush Systems

B1: Gen-2 Withdrawn G-S.2. Facilitation of Fraud [General Code]

B1: VTM-1 V S.3. Diversion of Measured Liquid and UR.2.6. Clearing the Discharge Hose [Vehicle Tank Meters]

The S&T Committee will consider a proposal that would permit the installation and use of a “manifold flush system,” which is intended to provide a safer means of flushing the different products from the delivery systems of vehicles equipped with multiple product storage compartments used commercially to deliver different products through a single vehicle-tank meter and discharge hose. This “flushing of product” is necessary when switching between the different products stored on and delivered from the same truck to lessen the amount of contamination of product delivered into a customer's storage vessel.

Flushing of product normally requires the delivery vehicle's operator to climb on top of the delivery truck with discharge hose and nozzle in hand to discharge product back into the appropriate storage compartment (after opening its hatch), clearing the lines for the next product to be delivered.

The manifold flush system makes possible flushing of the system at ground level, but its installation currently violates existing NIST Handbook 44 Vehicle Tank Meters (VTM) code paragraph S.3.1. Diversion of Measured Liquid by providing a means in which measured liquids can be easily diverted from the discharge line back into a product storage compartment. This diversion of metered product back into storage is considered by many to facilitate the perpetration of fraud.

The proposal exempts all metering systems with multiple compartments delivering multiple products through a single discharge hose from having to comply with VTM code paragraph S.3.1. and requires a means for clearing the discharge hose be provided for metering systems with multiple compartments delivering multiple products through a single discharge hose. It also allows for the installation of a manifold flush system and specifies various conditions that must be met for this flushing system to be considered acceptable.

The proposal also requires device users, who have the need to flush a discharge hose to keep a 12-month record of the different flushing operations to include dates, times, original product, new product, and gallons dispensed to avoid contamination.

Block 4 (B4), Items Terminology for Testing Standards and Block 5, Items (B5) Define “Field Reference Standard”

Block 4 (B4) Items and Block 5 (B5) Items include all the following items:

B4: Item SCL-4 N.2. Verification (Testing) Standards [Scales Code]

B4: Item ABW-1 N.2. Verification (Testing) Standards [Automatic Bulk Weighing Systems]

B4: Item AWS-1 N.1.3. Verification (Testing) Standards, N.3.1. Official Tests; UR.4. Testing Standards [Automatic Weighing Systems]

B4: Item CLM-1 N.3.2. Transfer Standard Test; T.3. On Tests Using Transfer Standards [Cryogenic Liquid-Measuring Devices]

B4: Item CDL-1 N.3.2. Transfer Standard Test; T.3. On Tests Using Transfer Standards [Carbon Dioxide Liquid-Measuring Devices]

B4: Item HGM-1 N.4.1. Master Meter (Transfer) Standard Test; T.4. Tolerance Application on Test Using Transfer Standard Test Method [Hydrogen Gas-Metering Devices]

B4: Item GGM-1 Section 5.56.(a) [Grain-Moisture Meters “a”] N.1.1. Air Oven Reference Method Transfer Standards, N.1.3. Meter to Like-Type Meer Method Transfer Standards, and Section 5.56.(b) [Grain-Moisture Meters “b”] N.1.1. Transfer Standards, T. Tolerances

B4: Item LVS-1 N.2. Testing Standards [Electronic Livestock, Meat, and Poultry Evaluation Systems and/or Devices]

B4: Item OTH-2 Appendix A—Fundamental Considerations, 3.2. Tolerances for Standards; 3.3. Accuracy of Standards

B4: Item OTH-3 Appendix D—Definitions: Fifth-wheel, official grain samples, transfer standard; standard, field

B5: Item CLM-2 N.3.2. Transfer Standard Test; T.3. On Tests Using Transfer Standards [Cryogenic Liquid-Measuring Devices]

B5: Item CDL-2 N.3.2. Transfer Standard Test; T.3. On Tests Using Transfer Standards [Carbon Dioxide Liquid-Measuring Devices]

B5: Item HGM-2 N.4.1. Master Meter (Transfer) Standard Test; T.4. Tolerance Application on Test Using Transfer Standard Test Method [Hydrogen Gas Metering-Systems]

B5: Item OTH-4 Appendix D—Definitions: Field Reference, Standard Meter; Transfer Standard

Block 4 and Block 5 items are considered related agenda items. The items in these two blocks are currently assigned a developing status and while the S&T Committee may not take comments on these items at the 2018 NCWM Annual Meeting, interested parties may wish to monitor the future progress of their continued development. These two groups of items are intended to: (1) Make clear the qualifying conditions in which a standard intended for use in testing (i.e., evaluating the performance of) a commercial weighing or measuring device or system can be used to conduct an official test; and (2) harmonize the terminology used to identify a suitable test standard in each of the Handbook 44 codes.

NCWM L&R Committee

The following items are proposals to amend NIST Handbook 130 or NIST Handbook 133:

NIST Handbook 130—Section on Uniform Regulation for the Method of Sale (MOS) of Commodities

Item MOS-10 2.XX. Pet Treats or Chews

The L&R Committee is recommending adoption of a uniform method of sale for Pet Treats or Chews. If adopted, the proposal will require sellers to follow labeling guidance under the Food and Drug Administration and 21 CFR 501, which defines these types of products as “shall be sold by weight.” This will also allow consumers to make a value comparison for similar like items.

NIST Handbook 133

Item NET-4 4.XX. Plywood and Wood-Based Structural Panels

There is no current test procedure in NIST Handbook 133, for Plywood and Wood-based Structural Panels. This will provide a test procedure for Plywood and Wood-Based Structural Panels. The L&R Committee is recommending further comment and consideration to add a testing procedure to NIST Handbook 133. This procedure follows good measuring practices for products sold by linear measure.

Authority: 15 U.S.C. 272(b).

Kevin A. Kimball,
Chief of Staff.

[FR Doc. 2018-13935 Filed 6-27-18; 8:45 am]

BILLING CODE 3510-13-P